DEPARTMENT OF THE INTERIOR

Bureau of Land Management

[AZ-040-00-1040-AE]

Gila Box Riparian National Conservation Area Advisory Committee; Meeting Notice

AGENCY: Bureau of Land Management, Interior.

ACTION: Gila Box Riparian National Conservation Area Advisory Committee Meeting.

SUMMARY: The purpose of this notice is to announce the next meeting of the Gila Box Riparian National Conservation Area Advisory Committee Meeting. The purpose of the Advisory Committee is to provide informed advice to the Safford Field Office Manager on Management of public lands in the Gila Box Riparian National Conservation Area (RNCA). The committee meets as needed, generally between two and four times a year.

The meeting will take place at the Bureau of Land Management, Safford Field Office on September 15, 2000 commencing at 9 a.m. and ending at 4 p.m. The meeting's agenda will consist of updates on livestock management, transportation system, public affairs, monitoring, and Lee Trail Headquarters relocation within the Gila Box RNCA. In addition, the meeting will include a update on the National Landscape Conservation System as it relates to the Gila Box RNCA. A public comment period will be provided from 9:45 a.m. to 10 a.m. for the public to address the committee on management of the Gila Box RNCA.

DATES: Meeting will be held on September 15, 2000 starting at 9 a.m.

FOR FURTHER INFORMATION CONTACT: Jon Collins, Gila Box NCA Project Coordinator, Safford Field Office, 711 14th Avenue, Safford, Arizona 85546; telephone number (520) 384-4400.

Dated: June 15, 2000.
William T. Civish,
Field Office Manager.

[FR Doc. 00-15996 Filed 6-15-00; 8:45 am]

BILLING CODE 4310-32-M